DEPARTMENT OF THE INTERIOR

Fish and Wildlife Service

[FWS-HQ-ES-2015-N196; FF09E15000-FXHC112509CBRA1-167]

John H. Chafee Coastal Barrier Resources System; Availability of Draft Maps for Alabama, Florida, Georgia, Louisiana, Michigan, Minnesota, Mississippi, New York, Ohio, and Wisconsin; Request for Comments

AGENCY: Fish and Wildlife Service, Interior.

ACTION: Notice of availability; request for comments.

SUMMARY: The Coastal Barrier Resources Act (CBRA) requires the Secretary of the Interior (Secretary) to review the maps of the John H. Chafee Coastal Barrier Resources System (CBRS) at least once every 5 years and make any minor and technical modifications to the boundaries of the CBRS as are necessary to reflect changes that have occurred in the size or location of any CBRS unit as a result of natural forces. The U.S. Fish and Wildlife Service (Service) has conducted this review and has prepared draft revised maps for all of the CBRS units in Alabama, all units in Florida (except for one unit that was remapped in 2014), all units in Georgia, several units in Louisiana, all units in Michigan, the only unit in Minnesota, all units in Mississippi, all units in the Great Lakes region of New York, all units in Ohio, and all units in Wisconsin. The draft maps were produced by the Service as part of a CBRS “digital conversion” project that is done in partnership with the Federal Emergency Management Agency (FEMA). This notice announces the findings of the Service's review and request for comments on the draft revised maps from Federal, State, and local officials.

DATES: To ensure consideration, the Service must receive written comments by December 17, 2015.

ADDRESSES: Mail comments to Katie Niemi, Coastal Barriers Coordinator, U.S. Fish and Wildlife Service, Ecological Services Program, 5275 Leesburg Pike, MS: ES, Falls Church, VA 22041, or send comments by electronic mail (email) to CBRAcomments@fws.gov.

FOR FURTHER INFORMATION CONTACT: Katie Niemi, Coastal Barriers Coordinator; (703) 358-2071 (telephone); or CBRA@fws.gov (email).

SUPPLEMENTARY INFORMATION:

Background

Background information on the CBRA (16 U.S.C. 3501 et seq.) and the CBRS, as well as information on the digital conversion effort and the methodology used to produce the revised maps, can be found in a notice the Service published in the Federal Register on August 29, 2013 (78 FR 53467).

For information on how to access the draft revised maps, see the Availability of Draft Maps and Related Information section below.

Proposed Modifications to the CBRS Boundaries

This notice fulfills a requirement under the CBRA (16 U.S.C. 3503(f)(3)) that the Secretary publish a notice in the Federal Register of any proposed revisions to the CBRS to reflect: (1) Changes that have occurred to the CBRS as a result of natural forces (e.g., erosion and accretion); (2) voluntary additions to the CBRS requested by property owners; or (3) additions of excess Federal property to the CBRS (as authorized under 16 U.S.C. 3503(c)-(e)).

The Service's review of all of the CBRS units in Alabama, all units in Florida (except for one unit that was remapped in 2014), all units in Georgia, several units in Louisiana, all units in Michigan, the only unit in Minnesota, all units in Mississippi, all units in the Great Lakes region of New York, all units in Ohio, and all units in Wisconsin resulted in a set of 205 draft revised maps, dated August 14, 2015, depicting a total of 250 CBRS units. The set of maps includes 9 maps for 10 CBRS units located in Alabama, 93 maps for 128 CBRS units located in Florida, 16 maps for 13 CBRS units located in Georgia, 15 maps for 7 CBRS units located in Louisiana, 36 maps for 46 CBRS units located in Michigan, 1 map for 1 CBRS unit located in Minnesota, 9 maps for 7 CBRS units located in Mississippi, 14 maps for 21 CBRS units located in the Great Lakes region of New York, 7 maps for 10 CBRS units located in Ohio, and 5 maps for 7 CBRS units located in Wisconsin. The Service's review of these areas found a total of 136 CBRS units that require modifications due to natural changes in the size or location of the units since they were last mapped. The Service's review of these areas also found two CBRS units that require modifications to correct administrative errors that were made in the past, on maps for Santa Rosa County, Florida, and Jackson County, Mississippi.

Following the close of the comment period on the date listed in the DATES section of this document, the Service will review all comments received from Federal, State, and local officials on the draft maps; make adjustments to the draft maps, as appropriate; and publish a notice in the Federal Register to announce the availability of the final revised maps.

Below is a summary of the changes depicted on the draft revised maps.

Alabama

The Service's review found 6 of the 10 CBRS units in Alabama to have changed due to natural forces.

AL-01P: PERDIDO KEY UNIT. A portion of the northern boundary of the unit has been modified to account for erosion along the shoreline of Old River. The western boundary of the unit has been modified to account for both erosion and accretion around Florida Point.

Q01: MOBILE POINT UNIT. There are five discrete segments of Unit Q01, but modifications to account for natural changes were only necessary in the largest segment. The southern boundary of the excluded area has been modified to account for erosion along the shoreline.

Q01P: MOBILE POINT UNIT. There are four discrete segments of Unit Q01P, but modifications to account for natural changes were only necessary in the two eastern segments. In the easternmost segment of the unit, the eastern boundary has been modified to account for shoreline erosion along Oyster Bay. In the eastern central segment of the unit, the southern boundary of the excluded area has been modified to account for shoreline erosion, and the boundary following the northern edge of Little Lagoon has been modified to account for natural changes that have occurred in the configuration of the shoreline.

Q01A: PELICAN ISLAND UNIT. The landward boundary of the unit located west of the Isle Dauphine Golf Club has been extended northward and westward to account for the migration of Pelican Island into Dauphin Island.

Q02: DAUPHIN ISLAND UNIT. In the eastern segment of the unit, located north of Fort Gaines, a portion of the boundary has been modified to account for wetlands erosion along the western side of an unnamed channel located landward of the southern portion of Little Dauphin Island. In the western segment of the unit, located on the west end of Dauphin Island, the northern boundary has been moved further north to account for the migration of the island. The western boundary has been moved further west to account for accretion at the western tip of the island.

Q02P: DAUPHIN ISLAND UNIT. The portions of the boundary encompassing the area near North Point and along the Dauphin Island Bridge have been expanded to accommodate accreting sand and submerged shoals around the northwestern portion of Little Dauphin Island.

Florida

The Service's review found 68 of the 128 CBRS units in Florida that are included in this review to have changed due to natural forces. Additionally, the Service's review found that one of these units, FL-99, contained an administrative error that was made by the Service in 1997.

Unit FL-87P, the only Florida CBRS unit not included in this review, was remapped and referenced in notices the Service published in the Federal Register on August 29, 2013 (78 FR 53467) and April 17, 2014 (79 FR 21787).

FL-03P: GUANA RIVER UNIT. The boundary of the unit has been modified to follow the shoreline at the northeastern portion of Capos Island. The boundary has been modified to reflect natural changes that have occurred in the configuration of the wetland/fastland interface around portions of Lake Ponte Vedra and east of Guana River. A portion of the landward boundary near Spanish Landing has been modified to account for channel migration along the Tolomato River as visible on the new CBRS base map. The southwestern portion of the landward boundary of the unit has been modified to reflect natural changes that have occurred in the configuration of the wetland/fastland interface.

FL-06P: WASHINGTON OAKS UNIT. The northwestern portion of the landward boundary of the unit has been modified to reflect natural changes that have occurred in the configuration of the wetland/fastland interface.

FL-14P: PEPPER BEACH UNIT. There are two discrete segments of Unit FL-14P. Within the northern segment, primarily the Indian River Aquatic Preserve, the southern boundary has been modified along Fort Pierce Cut to reflect natural changes that have occurred in the configuration of the shoreline.

FL-16P: JUPITER BEACH UNIT. A portion of the western boundary of the unit has been modified to reflect natural changes that have occurred in the configuration of the shoreline of an unnamed channel near Jupiter Beach Park. A portion of the northern boundary has been modified to reflect natural changes that have occurred in the configuration of the shoreline of Jupiter Inlet.

FL-35: NORTH KEY LARGO UNIT. Portions of the landward boundary of the unit have been modified to reflect natural changes that have occurred in the configuration of the mangroves and the shoreline along Little Card Sound. Portions of the boundaries that are coincident with Unit FL-35P have been modified to reflect natural changes that have occurred in the configuration of the mangroves and shoreline along Linderman Creek, Card Sound, Barnes Sound, and the Atlantic Ocean. Portions of the boundary coincident with Unit FL-36P have been modified to reflect natural changes that have occurred in the configuration of the mangroves and shoreline along El Radabob Key.

FL-35P: NORTH KEY LARGO UNIT. There are seven discrete segments of Unit FL-35P, but modifications to account for natural changes were only necessary in five of the segments. The boundaries of the unit are primarily coincident with those of Unit FL-35. In the northernmost segment of the unit, located on Linderman Key, a portion of the boundary has been modified to reflect natural changes that have occurred in the configuration of the mangroves and shoreline along Card Sound. In the next segment to the south, a portion of the boundary has been modified to reflect natural changes that have occurred in the configuration of the mangroves and shoreline along Linderman Creek. The western boundary of this same segment has been modified to reflect natural changes that have occurred in the configuration of the mangroves and shoreline along Card Sound. Portions of the central segment, comprised largely of Crocodile Lake National Wildlife Refuge, have been modified to reflect natural changes that have occurred in the configuration of the shoreline along the Atlantic Ocean and Barnes Sound. In the two southernmost segments of Unit FL-35P, portions of the boundaries have been modified to reflect natural changes that have occurred in the configuration of the mangroves and shoreline along the Atlantic Ocean. The lateral boundaries of the central segment have been extended to clarify the extent of the unit.

FL-36P: EL RADABOB KEY UNIT. Portions of the western boundary of the unit have been modified to reflect natural changes that have occurred in the configuration of the mangroves and shoreline along Largo Sound. Portions of the boundary coincident with Unit FL-35 have been modified to reflect natural changes that have occurred in the configuration of the mangroves and shoreline along El Radabob Key.

FL-37: RODRIGUEZ KEY UNIT. A portion of the landward boundary of the unit has been modified to account for shoreline erosion along the Atlantic Ocean.

FL-39: TAVERNIER KEY UNIT. A portion of the northeastern boundary of the unit has been modified to account for emergent mangroves along Plantation Key. A boundary segment was added to the lateral boundaries to clarify that Tavernier Key is located within the unit.

FL-44: TOMS HARBOR KEYS UNIT. Portions of the landward boundary of the unit have been modified to reflect natural changes in the configuration of the mangroves and shoreline along Toms Harbor.

FL-47P: KEY DEER/WHITE HERON UNIT. There are 15 discrete segments of Unit FL-47P, but modifications to account for natural changes were only necessary in 4 segments. Portions of the boundary of the largest segment of the unit were modified to account for natural changes that have occurred in the configuration of the shoreline along Cudjoe Key. Portions of the boundary that are coincident with Unit FL-52 have been modified to account for natural changes that have occurred in the configuration of the shoreline along Big Torch Key. In a central segment, located between Little Knockemdown Key and Summerland Key, portions of the boundary that are coincident with Unit FL-52 have been modified to account for natural changes that have occurred in the configuration of the shoreline. Portions of the boundary, located in Upper Sugarloaf Sound, have been modified to account for natural changes in the configuration of the shoreline along Buttonwood Key.

FL-50: NO NAME KEY UNIT. Portions of the western boundary of the unit have been modified to account for natural changes in the configuration of the shoreline along Big Pine Key.

FL-51: NEWFOUND HARBOR KEYS UNIT. A portion of the eastern boundary of the unit has been modified to account for changes in the configuration of the mangroves and shoreline of an unnamed island located west of Long Beach.

FL-52: LITTLE KNOCKEMDOWN/TORCH KEYS COMPLEX UNIT. There are two discrete segments of Unit FL-52, but modifications to account for natural changes were only necessary in the northern segment. A portion of the eastern boundary following Niles Channel, which is coincident with the excluded area, has been modified to account for natural changes that have occurred in the configuration of the shoreline. Portions of the northern boundary that are coincident with Unit FL-47P have been modified to account for natural changes that have occurred in the configuration of the shoreline along Big Torch Key. A portion of the southern boundary has been modified to reflect natural changes in the configuration of the mangroves and shoreline along Summerland Key. Portions of the boundary that are coincident with Unit FL-47P, located between Little Knockemdown Key and Summerland Key, have been modified to account for natural changes that have occurred in the configuration of the shoreline.

FL-54: SUGARLOAF SOUND UNIT. There are four discrete segments of Unit FL-54, but modifications to account for natural changes were only necessary in the two western segments. In both western segments of the unit, portions of the boundary have been modified to reflect natural changes in the configuration of the shoreline along Lower Sugarloaf Sound.

FL-55: SADDLEBUNCH KEYS UNIT. There are two discrete segments of Unit FL-55. In the northern segment of the unit, portions of the boundary have been modified to account for shoreline erosion along the western side of Shark Key. In the southern segment of the unit, portions of the boundary have been modified to reflect natural changes that have occurred in the configuration of the mangroves and shoreline along Geiger Key.

FL-63P: TIGERTAIL UNIT. The lateral boundaries of the unit have been extended offshore to clarify the extent of the unit. No modifications were made to the boundaries of this unit as a result of changes due to natural forces.

FL-65P: WIGGINS PASS UNIT. A portion of the landward boundary of the unit has been modified to account for natural changes that have occurred along Vanderbilt Channel.

FL-67: BUNCHE BEACH UNIT. The northern boundary of the unit has been modified to account for natural changes that have occurred in the configuration of an unnamed channel south of Big Shell Island. A portion of the western boundary has been extended westward to account for the migration of the sand sharing system in San Carlos Bay. The name of this unit has been changed from “Bunch Beach” to “Bunche Beach” to correct a spelling error.

FL-80P: PASSAGE KEY UNIT. The northern and southern lateral boundaries of the unit have been extended westward and the southern lateral boundary has been moved southward to ensure that all of the shoals are clearly within the unit.

FL-81: EGMONT KEY UNIT. The boundary of the southern segment of the unit has been modified to account for natural changes that have occurred along the shoreline of Egmont Key.

FL-81P: EGMONT KEY UNIT. The landward boundary of the unit has been modified to account for natural changes that have occurred in the configuration of the shoreline along Egmont Key. The southern boundary has been moved southward to include more of the sand sharing system associated with Egmont Key.

FL-83: COCKROACH BAY UNIT. Portions of the landward boundary of the unit have been modified to account for natural changes that have occurred in the configuration of the wetland/fastland interface.

FL-86P: CALADESI/HONEYMOON ISLANDS UNIT. A portion of the northern boundary of the unit has been moved northward to include more of the sand sharing system associated with Honeymoon Island. A portion of the southern boundary that is coincident with Unit P24A has been modified to account for accretion and to include the associated aquatic habitat at the northern tip of Clearwater Beach Island.

FL-89: PENINSULA POINT UNIT. The landward boundary and the western lateral boundary of the unit have been moved further north and west to account for accretion at the western tip of Peninsula Point. The southern lateral boundary of the unit has been extended offshore to clarify the extent of the unit.

FL-94: DEER LAKE COMPLEX. The westernmost portion of the landward boundary of the unit has been modified to reflect natural changes in the wetlands along the shoreline of an unnamed pond. The boundary following the eastern shoreline of Deer Lake and the boundary along the central segment of the unit have been modified to reflect natural changes that have occurred in the configuration of the wetland/fastland interface.

FL-96: DRAPER LAKE UNIT. A portion of the landward boundary of the unit has been modified to reflect natural changes in the shoreline of Draper Lake.

FL-97: NAVARRE BEACH UNIT. The landward boundary of the unit has been modified to account for shoreline erosion along the northern side of Santa Rosa Sound.

FL-98P: SANTA ROSA ISLAND UNIT. A portion of the boundary in Pensacola Bay, located northwest of Fort Pickens, has been moved northward to account for accretion at the western tip of Santa Rosa Island.

FL-99: TOM KING UNIT. An approximately 750 foot long portion of the boundary of the unit located along the shoreline of East Bay north of Tom King Bayou has been modified to correct an administrative error in the transcription of the boundary from the prior CBRS map dated October 24, 1990, to the official map dated July 12, 1996, for this unit. The boundary on the official 1996 map was placed approximately 130 feet too far inland, and incorrectly included four homes within the unit. This correction is supported by an assessment of the historical CBRS maps for this area, the draft map of Unit FL-99 included in the Service's 1988 Report to Congress: Volume 15, Florida (West Coast), the Service's 1994 Coastal Barrier Resources System Photographic Atlas: Florida, Volume 13, Panama City, Part II, and the legislative history of the Coastal Barrier Improvement Act (CBIA) (Pub. L. 101-591). Structures remain within other portions of Unit FL-99 that were not affected by this transcription error. No modifications were made to the boundaries of this unit as a result of changes due to natural forces.

FL-100: TOWN POINT UNIT. The eastern and western lateral boundaries of the unit have been extended offshore to clarify that the shoals north of Town Point in Pensacola Bay are within the unit. No modifications were made to the boundaries of this unit as a result of changes due to natural forces.

FL-101: GARCON POINT UNIT. A portion of the landward boundary of the unit has been modified to account for natural changes that have occurred in the wetlands. A portion of the northern boundary of the unit has been modified to account for erosion along the shoreline of East Bay and natural changes that have occurred in the configuration of the wetland/fastland interface. An offshore boundary has been added in East Bay and the western lateral boundary of the unit has been extended offshore to clarify the extent of the unit.

FL-102: BASIN BAYOU UNIT. A portion of the boundary along Escambia Bay has been modified to account for erosion along the shoreline.

FL-103P: PERDIDO KEY UNIT. A portion of the landward boundary at the eastern end of the unit has been moved northward to account for accretion on the northeastern side of Perdido Key.

P02: TALBOT ISLANDS COMPLEX. The northern portion of the boundary has been modified to account for channel migration along Sawpit Creek and Gunnison Cut. The southern portion of the boundary has been modified to account for channel migration along Haulover Creek and to follow the shoreline along Batten Island. The west central portion of the coincident boundary between Units P02 and P02P has been modified to account for channel migration along Myrtle Creek.

P02P: TALBOT ISLANDS COMPLEX. The west central portion of the coincident boundary between Units P02 and P02P has been modified to account for channel migration along Myrtle Creek.

P04A: USINA BEACH UNIT. The landward boundary of the unit has been modified to reflect natural changes that have occurred in the configuration of the wetland/fastland interface. The northern portion of the boundary has been modified to account for channel migration along Robinson Creek. The name of this unit has been changed from “Usinas Beach” to “Usina Beach” to correct a spelling error.

P05: CONCH ISLAND UNIT. The landward boundary of the unit and a portion of the coincident boundary between Units P05 and P05P have been modified to reflect natural changes that have occurred in the configuration of the wetland/fastland interface.

P05P: CONCH ISLAND UNIT. A portion of the coincident boundary between Units P05 and P05P has been modified to reflect natural changes that have occurred in the configuration of the wetland/fastland interface.

P05A: MATANZAS RIVER UNIT. A portion of the landward boundary of the unit has been modified to reflect natural changes that have occurred in the configuration of the wetland/fastland interface. The western portion of the excluded area boundary along Rattlesnake Island has been modified to reflect natural changes that have occurred in the configuration of a portion of shoreline along the Intracoastal Waterway.

P07: ORMOND-BY-THE-SEA UNIT. A portion of the landward boundary of the unit has been modified to reflect natural changes that have occurred in the configuration of the wetland/fastland interface.

P08: PONCE INLET UNIT. The southeastern portion of the boundary has been modified to include the sand sharing system as visible on the new CBRS base map. A portion of the western boundary has been modified to reflect natural changes that have occurred in the configuration of the shoreline along Leon Cut. The northwestern portion of the boundary has been modified to follow the center of the Spruce Creek channel.

P09A: COCONUT POINT UNIT. The eastern portions of the two excluded areas have been modified to reflect natural changes that have occurred in the configuration of the shoreline of the Atlantic Ocean. The western portions of the two excluded areas have been modified to reflect natural changes that have occurred in the shoreline of Indian River. The landward boundary of the unit has been modified to reflect natural changes that have occurred in the configuration of the shoreline of Indian River.

P10A: BLUE HOLE UNIT. The southwestern portion of the landward boundary of the unit has been modified to reflect natural changes that have occurred in the configuration of the shoreline of an unnamed channel. The western portion of the landward boundary of the unit has been modified to reflect natural changes that have occurred in the configuration of the wetland/fastland interface. The eastern and western excluded area boundaries have been modified to reflect natural changes that have occurred in the configuration of the shoreline of the Atlantic Ocean and Blue Hole Creek.

P11: HUTCHINSON ISLAND UNIT. The eastern boundaries of the two excluded areas have been modified to reflect natural changes that have occurred in the configuration of the shoreline of the Atlantic Ocean. The landward boundary of the unit and western boundary of the northern excluded area have been modified to reflect natural changes that have occurred in the configuration of the shoreline of Indian River.

P12P: HOBE SOUND UNIT. A portion of the northwestern boundary of the unit has been modified to reflect natural changes that have occurred in the configuration of the shoreline of Great Pocket. A portion of the southwestern boundary has been modified to reflect natural changes that have occurred in the configuration of the shoreline of Peck Lake. A portion of the southwestern boundary has been modified to reflect natural changes that have occurred in the configuration of the wetland/fastland interface west of Peck Lake.

P15: CAPE ROMANO UNIT. The southern boundary and portions of the northern boundary of the unit have been modified to include more of the sand sharing system.

P16: KEEWAYDIN ISLAND UNIT. A portion of the southeastern boundary of the unit has been modified to account for natural changes in the configuration of an unnamed channel north of the Isles of Capri. A portion of the southwestern boundary has been modified to account for natural changes that have occurred in the configuration of the shoreline and associated aquatic habitat along the northwestern portion of Marco Island known as Sand Dollar Island. The lateral boundaries have been extended offshore to clarify the extent of the unit.

P17: LOVERS KEY COMPLEX. Portions of the landward boundary of the unit have been modified to reflect natural changes that have occurred in the configuration of the wetland/fastland interface. The boundary coincident with Unit P17P has been modified to account for natural changes that have occurred in the configuration of the shoreline. The southwestern lateral boundary has been modified to account for erosion of the sand spit along Big Hickory Pass.

P17A: BOWDITCH POINT UNIT. The name of this unit has been changed from “Bodwitch Point” to “Bowditch Point” to correctly identify the underlying barrier feature. No modifications were made to the boundaries of this unit as a result of changes due to natural forces.

P17P: LOVERS KEY COMPLEX. The boundary of the unit that is coincident with Unit P17 has been modified to account for natural changes that have occurred in the configuration of the shoreline.

P18: SANIBEL ISLAND COMPLEX. The southern boundary of the unit has been extended southwestward to account for accretion which resulted in connecting the sand sharing system of an emerging island to Albright Key.

P18P: SANIBEL ISLAND COMPLEX. There are seven discrete segments of Unit P18P, but modifications to account for natural changes were only necessary in one segment that is located just south of Captiva Island and Unit P18 along the Gulf of Mexico shoreline of Sanibel Island. A portion of the landward boundary of this segment has been modified to reflect natural changes that occurred in the configuration of an unnamed channel between Silver Key and Bowmans Beach County Park.

P19: NORTH CAPTIVA ISLAND UNIT. Portions of the boundaries that are coincident with Unit P19P have been modified to account for natural changes that have occurred in the configuration of the shoreline along North Captiva Island. The northern boundary that is coincident with Unit P20 has been moved northward to account for shoreline erosion at the southern tip of Cayo Costa.

P19P: NORTH CAPTIVA ISLAND UNIT. There are 16 discrete segments of Unit P19P that are all coincident with Unit P19. Portions of two discrete segments were combined and modified to account for natural changes that have occurred in the configuration of the shoreline along North Captiva Island.

P20: CAYO COSTA UNIT. A portion of the eastern boundary of the unit has been modified to account for natural changes that occurred in the configuration of the shoreline along Useppa Island. The northern boundary has been moved northward to account for migration of the sand sharing system north of Cayo Costa. A portion of the boundary that is coincident with Unit P20P has been modified to reflect natural changes that have occurred along the shoreline of Cayo Costa.

P20P: CAYO COSTA UNIT. There are 13 discrete segments of Unit P20P, but modifications to account for natural changes were only necessary in three of the western segments. The three western segments are coincident with Unit P20, and the modifications were made to account for natural changes that have occurred along the eastern shoreline of Cayo Costa. The southwesternmost boundary that is coincident with Unit P19 has been moved northward to account for shoreline erosion at the southern tip of Cayo Costa.

P21: BOCILLA ISLAND UNIT. There are three discrete segments of Unit P21, but modifications to account for natural changes were only necessary in the northern segment. The landward boundary has been modified to account for natural changes that have occurred along the shoreline of Lemon Bay.

P21A: MANASOTA KEY UNIT. There are three discrete segments of Unit P21A, but modifications to account for natural changes were only necessary in the southern segment. The boundary of the southern segment of the unit has been modified to account for accretion that has occurred along the eastern shoreline of Manasota Key.

P21AP: MANASOTA KEY UNIT. A lateral boundary of the southern segment of the unit has been extended offshore to clarify the extent of the unit. No modifications were made to the boundaries of this unit as a result of changes due to natural forces.

P22: CASEY KEY UNIT. Portions of the landward boundary of the unit have been modified to account for natural changes that have occurred in the configuration of the shoreline along Sarasota Keys.

P23: LONGBOAT KEY UNIT. A portion of the landward boundary of the unit has been modified to account for natural changes that have occurred in the configuration of the wetland/fastland interface along Tidy Island.

P24: THE REEFS UNIT. Portions of the boundary of the unit located north and east of Shell Key Shoal have been modified to account for accretion and to include more of the sand sharing system. A portion of the boundary that is coincident with Unit P24P has been modified to reflect natural changes that have occurred in the configuration of the shoreline along Mullet Key.

P24P: THE REEFS UNIT. A portion of the boundary of the southern segment of the unit, which is coincident with Unit P24, has been modified to reflect natural changes that have occurred in the configuration of the shoreline along Mullet Key.

P24A: MANDALAY POINT UNIT. A portion of the boundary that is coincident with Unit FL-86P has been modified to account for accretion and to include the associated aquatic habitat at the northern tip of Clearwater Beach Island.

P25: CEDAR KEYS UNIT. The coincident boundary between Units P25 and P25P has been modified to account for natural changes that have occurred in the configuration of the shoreline along Candy Island, Hog Island North Key, Seahorse Key, Snake Key, and the eastern end of Buck Island. The coincident boundary between Units P25 and P25P has also been modified to reflect natural changes along Dennis Creek and the wetlands on the western shore of an unnamed peninsula. A portion of the southern boundary of the excluded area along Daughtry Bayou has been modified to account for natural changes in the configuration of the shoreline.

P25P: CEDAR KEYS UNIT. The coincident boundary between Units P25 and P25P has been modified to account for natural changes that have occurred in the configuration of the shoreline along Candy Island, Hog Island North Key, Seahorse Key, Snake Key, and the eastern end of Buck Island. The coincident boundary between Units P25 and P25P has also been modified to reflect natural changes along Dennis Creek and the wetlands on the western shore of an unnamed peninsula.

P27A: OCHLOCKONEE COMPLEX. A portion of the boundary on St. James Island has been modified to reflect natural changes that have occurred in the configuration of the wetland/fastland interface. A portion of the boundary along the southern side of Mashes Island has been modified to account for erosion along the shoreline of Ochlockonee Bay.

P28: DOG ISLAND UNIT. The northwestern boundary of the unit has been extended to clarify that Unit P28 is contiguous with Unit FL-90P to the southwest. No modifications were made to the boundaries of this unit as a result of changes due to natural forces.

P30: CAPE SAN BLAS UNIT. The landward boundary of the unit has been modified to account for erosion and other natural changes that have occurred in the configuration of the shoreline along the eastern side of St. Joseph Bay. The coincident boundary between Units P30 and P30P along the Gulf of Mexico has been modified to account for both erosion and accretion along the shoreline of St. Joseph Peninsula. Portions of the coincident boundary between Units P30 and P30P along the western side of St. Joseph Bay have been modified to account for natural changes that have occurred in the configuration of the shoreline. The northern lateral boundary of the unit has been extended offshore to clarify the extent of the unit.

P30P: CAPE SAN BLAS UNIT. The coincident boundary between Units P30 and P30P along the Gulf of Mexico has been modified to account for both erosion and accretion along the shoreline of St. Joseph Peninsula. Portions of the coincident boundary between Units P30 and P30P along the western side of St. Joseph Bay have been modified to account for natural changes that have occurred in the configuration of the shoreline.

P31: ST. ANDREW COMPLEX. Portions of the landward boundary of the unit located northwest of Wild Goose Lagoon, northeast of St. Andrew Sound, along Hog Island Sound, and along St. Andrew Bay, have been modified to account for natural changes along the shoreline and in the wetlands. The coincident boundary between Units P31 and P31P along the shoreline of Shell Island has been modified to account for accretion on the northern side of the island.

P31P: ST. ANDREW COMPLEX. The coincident boundary between Units P31 and P31P along the shoreline of Shell Island has been modified to account for accretion on the northern side of the island. The boundary along the shoreline of Grand Lagoon has been modified to reflect natural changes that have occurred in the configuration of the wetland/fastland interface.

P32: MORENO POINT UNIT. The southern boundaries of the excluded areas have been modified to account for natural changes that have occurred in the configuration of the shoreline.

Georgia

The Service's review found 12 of the 13 CBRS units in Georgia to have changed due to natural forces.

GA-02P: OSSABAW ISLAND UNIT. The northwestern boundary of the unit has been modified to account for channel migration along Skipper Narrows. Portions of the landward boundary of the unit have been modified to reflect natural changes that have occurred in the configuration of the wetland/fastland interface.

GA-03P: ST. CATHERINE ISLAND UNIT. The western boundary of the unit has been modified to account for channel migration along the Intracoastal Waterway.

GA-04P: BLACKBEARD/SAPELO ISLANDS UNIT. Portions of the landward boundary of the unit have been modified to reflect natural changes that have occurred in the configuration of the wetland/fastland interface. The northern boundary has been modified to account for channel migration along Sapelo River. The southwestern boundary has been modified to account for channel migration along Hudson Creek, Doboy Sound, North River, and Rockdedundy River.

GA-05P: ALTAMAHA/WOLF ISLANDS UNIT. The northwestern boundary of the unit has been modified to account for channel migration along Darien River. The southwestern boundary has been modified to account for channel migration along South Altamaha River. The southern boundary coincident with Unit N03 has been modified to account for channel migration along Buttermilk Sound.

N01: LITTLE TYBEE ISLAND UNIT. The northeastern and lateral boundaries have been modified to add portions of the sand sharing system at the mouth of Tybee Creek. The northern boundary of the unit has been modified to account for channel migration along Bull River, Lazaretto Creek, and Tybee Creek. The southwestern boundary has been modified to account for channel migration along Wilmington River. The landward portion of the unit has been modified to reflect natural changes that have occurred in the configuration of the wetland/fastland interface.

N01A: WASSAW ISLAND UNIT. The western boundary of the unit has been modified to account for channel migration along an unnamed channel.

N01AP: WASSAW ISLAND UNIT. The western boundary of the unit has been modified to account for channel migration along Romerly Marsh Creek, Habersham Creek, and Adams Creek.

N03: LITTLE ST. SIMONS ISLAND UNIT. The northern boundary coincident with Unit GA-05P has been modified to account for channel migration along Buttermilk Sound. The southern boundary of the unit has been modified to account for channel migration along Village Creek and Hampton River. Portions of the landward boundary of the unit have been modified to reflect natural changes that have occurred in the configuration of the wetland/fastland interface.

N04: SEA ISLAND UNIT. The northern and landward boundaries of the unit have been modified to reflect natural changes that have occurred in the configuration of the wetland/fastland interface. The southwestern boundary has been modified to account for channel migration along an unnamed channel. A portion of the southern boundary has been modified to extend further west to account for migration of the sand sharing system at Goulds Inlet.

N05: LITTLE CUMBERLAND ISLAND UNIT. The northern lateral boundary of the unit has been moved north to account for shoal migration north of Little Cumberland Island. The landward boundary of the unit has been modified to reflect natural changes that have occurred in the configuration of the wetland/fastland interface. The southern boundary coincident with Unit N06 has been modified to account for channel migration along Floyd Creek. The southeastern boundary coincident with Unit N06P has been modified to account for the accretion of the barrier spit at Long Point.

N06: CUMBERLAND ISLAND UNIT. There are five discrete segments of Unit N06, but modifications to account for natural changes were only necessary in two of the segments. The northern boundary of the northern segment, coincident with Unit N05, has been modified to account for channel migration along Floyd Creek. The landward boundary of the northern segment has been modified to reflect natural changes that have occurred in the configuration of the wetland/fastland interface. The eastern boundary of the northern segment coincident with Unit N06P has been modified to account for channel migration along Brickhill River. The southeastern portion of the southern segment coincident with Unit N06P has been modified to account for channel migration along Beach Creek.

N06P: CUMBERLAND ISLAND UNIT. There are six discrete segments of Unit N06P, but modifications to account for natural changes were only necessary in three of the segments. In the northernmost segment, the northern boundary coincident with Unit N06 has been modified to account for the accretion of the barrier spit at Long Point. The western boundary of this segment that is coincident with Unit N06 has been modified to account for channel migration along Brickhill River. The boundary of the northwestern segment of Unit N06P, coincident with Unit N06, has been modified to account for channel migration along Brickhill River. The southwestern portion of the southern segment coincident with Unit N06 has been modified to account for channel migration along Beach Creek.

Louisiana

The Service's review found five of the seven CBRS units in Louisiana that are included in this review (Units LA-01, LA-02, S03, S04, S05, S06, and S07) to have changed due to natural forces.

The remaining Louisiana CBRS units not included in this review (Units LA-03P, LA-04P, LA-05P, LA-07, LA-08P, LA-09, LA-10, S01, S01A, S02, S08, S09, S10, and S11) are anticipated to have draft revised maps completed through the digital conversion effort available for stakeholder review and comment in 2016.

S03: CAMINADA UNIT. The eastern boundary of the unit north of Cheniere Caminada has been modified to account for channel migration. The eastern boundary of the southwestern excluded area has been modified to account for natural changes along the shoreline of an unnamed channel.

S04: TIMBALIER BAY UNIT. The eastern boundary of the unit has been modified to account for channel migration and wetlands erosion along Bayou Lafourche and Belle Pass. A portion of the northern boundary following an inlet to Devils Bay has been modified to account for channel migration and wetlands erosion.

S05: TIMBALIER ISLANDS UNIT. The northern boundary of the unit has been modified to account for the migration of Timbalier Island and East Timbalier Island and to include associated shoals within the unit. The western boundary has also been moved westward to account for the migration of Timbalier Island.

S06: ISLES DERNIERES UNIT. The northeastern boundary has been modified to account for the migration of the Isles Dernieres. The northern boundary has been modified and generalized to account for wetlands erosion along Grand Pass des Ilettes. The western boundary has been moved northwestward to account for the migration of the Isles Dernieres. The eastern boundary of the unit has been extended offshore to clarify the extent of the unit.

S07: POINT AU FER UNIT. The eastern boundary of the unit has been modified to account for channel migration along Buckskin Bayou. The northern boundary has been modified to account for channel migration along Blue Hammock Bayou. A segment of the western boundary has been modified to account for wetlands erosion on the western side of Point Au Fer Island. A segment of the western boundary has been modified to include North Point due to accretion connecting North Point to Point Au Fer. Due to the significant rate of erosion in this area, some of the boundaries have been generalized. The eastern and western boundaries have been extended offshore to clarify the extent of the unit. Additionally, the northern boundary of the unit has been adjusted near the location where Four League Bay joins Atchafalaya Bay to close a gap in the boundary on the official map dated October 24, 1990, for this unit.

Michigan

The Service's review found 16 of the 46 CBRS units in Michigan to have changed due to natural forces.

MI-02: TOLEDO BEACH UNIT. The western lateral boundary has been moved westward to account for the accretion of a barrier spit within the unit.

MI-04: STURGEON BAR UNIT. The landward boundary of the unit has been modified to reflect natural changes that have occurred in the configuration of the shoreline and the wetland/fastland interface.

MI-05: HURON CITY UNIT. The boundary of the unit has been modified to reflect natural changes that have occurred in the configuration of the shoreline of Lake Huron and Willow Creek.

MI-08: CHARITY ISLAND UNIT. The western boundary of the unit has been moved westward to account for accreting sand and submerged shoals on the western side of Charity Island.

MI-13: SQUAW BAY UNIT. The landward boundary of the unit has been modified to reflect natural changes that have occurred in the configuration of the wetland/fastland interface. The northern lateral boundary has been moved northward and the southern lateral boundary has been moved southward to account for accreting sand and submerged shoals around Sulphur Island.

MI-14: WHITEFISH BAY UNIT. The landward boundary of the unit has been modified to reflect natural changes that have occurred in the configuration of the wetland/fastland interface.

MI-17: SWAN LAKE UNIT. The western and southeastern boundaries of the unit have been modified to reflect natural changes that have occurred in the configuration of the wetland/fastland interface. The eastern boundary has been modified to account for natural changes in the configuration of the shoreline of Swan Lake and to the channel between Swan Lake and Lake Huron.

MI-21: ARCADIA LAKE UNIT. The boundary along the eastern shoreline of the excluded area has been modified slightly to better follow the shoreline as depicted on the new CBRS base map.

MI-22: SADONY BAYOU UNIT. The landward boundary of the unit has been modified to reflect natural changes that have occurred in the configuration of the wetland/fastland interface.

MI-29: SEUL CHOIX UNIT. The northeastern boundary of the unit has been modified to reflect natural changes that have occurred in the configuration of the shoreline of an unnamed channel.

MI-33: MILLECOQUINS POINT UNIT. The boundary of the unit along the southern side of the excluded area has been modified slightly to better follow the shoreline as depicted on the new CBRS base map.

MI-40: GREEN ISLAND UNIT. The eastern landward boundary of the unit has been modified to reflect the current configuration of the wetland/fastland interface. The western landward boundary has been modified to account for accretion along the shoreline. The eastern lateral boundary has been moved eastward and the western lateral boundary has been moved westward to account for accreting sand and submerged shoals within the unit.

MI-44: ALBANY ISLAND UNIT. The western portion of the landward boundary of the unit has been modified to reflect natural changes that have occurred in the configuration of the wetland/fastland interface.

MI-49: SHELLDRAKE UNIT. A portion of the northern boundary of the unit has been modified to reflect natural changes that have occurred in the configuration of the shoreline of Betsy River.

MI-53: VERMILION UNIT. The landward boundary of the unit has been modified to reflect natural changes that have occurred in the configuration of the wetland/fastland interface and the configuration of the shoreline of Twomile Lake.

MI-62: SAUX HEAD UNIT. The boundary of the unit has been modified to reflect natural changes that have occurred in the configuration of the shoreline of Saux Head Lake.

Minnesota

The Service's review found that the boundaries of Unit MN-01 (the only CBRS unit in Minnesota) do not need to be modified due to changes from natural forces.

Mississippi

The Service's review found four of the seven CBRS units in Mississippi to have changed due to natural forces. Additionally, the Service's review found that one of these units, R01A, contained administrative errors that were made by the Service in 1990.

MS-01P: GULF ISLANDS UNIT. The gap between the two discrete segments of the unit, located near the western tip of Petit Bois Island, has been moved to the west due to the migration of Petit Bois Island towards Horn Island Pass Channel.

MS-02: MARSH POINT UNIT. Portions of the landward boundary of the unit have been modified to reflect natural changes that have occurred in the configuration of the wetland/fastland interface.

MS-04: HERON BAY POINT UNIT. Three segments of offshore boundary have been added to the eastern, western, and southern portions of the unit to clarify the extent of the unit. The southern boundary of the unit is coincident with the northern boundary of Unit LA-02 in Louisiana. No modifications were made to the boundaries of this unit as a result of changes due to natural forces.

R01A: BELLE FONTAINE POINT UNIT. The western boundary of the unit has been modified to reflect natural changes in the wetlands along Graveline Bay. Additionally, three areas of the unit have been modified to correct administrative errors in the transcription of the boundary from the draft map that was included in the Service's 1988 Report to Congress: Volume 17, Mississippi, and was reviewed and approved by Congress, to the official map dated October 24, 1990, for this unit. On the landward side of the unit, the boundary on the official 1990 map inaccurately showed more wetlands within the unit than the 1988 draft map. Furthermore, the eastern and western lateral boundaries of the unit were intended to remain the same as those depicted on the original map for this unit dated September 30, 1982, which was adopted by Congress with the enactment of the CBRA. However, the lateral boundaries were inadvertently moved by as much as 950 feet when they were transcribed from the 1988 draft map onto the new base map used for the official 1990 map. These corrections are supported by an assessment of the historical CBRS maps for the area and the legislative history of the CBIA. These errors likely occurred due to the fact that the boundary shown on the draft map that was approved by Congress had to be transcribed onto a new base map in 1990 in order to create the official map for the unit, and the new base map showed slightly updated natural and development features.

R02: DEER ISLAND UNIT. The official October 24, 1990, map of this unit does not include a complete depiction of the western end of Deer Island due to the limitations of the base map that was used at the time. The western portion of the boundary of the unit goes up to edge of the U.S. Geological Survey Topographic Quadrangle that it was printed on, and the unit is assumed to extend to the west to cover all of Deer Island. A segment of boundary has been added to the western end of the unit to match the location of the boundary as depicted on the Congressionally adopted map that first established this unit, dated September 30, 1982, to clearly show that all of Deer Island is within the unit. This clarification is supported by an assessment of the historical CBRS maps for this area as well as the legislative history of the CBIA. No modifications were made to the boundaries of this unit as a result of changes due to natural forces.

R03: CAT ISLAND UNIT. The western segment of the unit has been modified to account for erosion of the wetlands on the western side of Cat Island. The eastern segment of the unit, consisting of Middle Spit, South Spit, and associated shoals, has been modified to account for erosion of the wetlands, and erosion and migration of the spit. Due to the rapid rate of erosion in this area, some of the boundaries have been generalized.

New York

The Service's review found 15 of the 21 CBRS units in the Great Lakes region of New York (the only CBRS units in New York that were part of this review) to have changed due to natural forces. Unit NY-60P was remapped and referenced in notices the Service published in the Federal Register on June 10, 2014 (79 FR 33207), and May 4, 2015 (80 FR 25314). Other CBRS units in the State of New York were not assessed as part of this review.

NY-62: GRENADIER ISLAND UNIT. The eastern lateral boundary of the unit has been modified to account for the accretion of a sand spit within the unit.

NY-64: THE ISTHMUS UNIT. A portion of the boundary of the unit along Chaumont Bay has been modified to reflect natural changes that have occurred in the configuration of the wetland/fastland interface.

NY-65: POINT PENINSULA UNIT. The landward boundary of the unit has been modified to reflect natural changes that have occurred in the configuration of the wetland/fastland interface.

NY-66: HOUNSFIELD UNIT. Two segments of offshore boundary have been added to clarify the extent of the unit. No modifications were made to the boundaries of this unit as a result of changes due to natural forces.

NY-67: DUTCH JOHN BAY UNIT. Portions of the boundary along the shoreline of Stony Island have been modified to account for natural changes that have occurred in the configuration of the shoreline.

NY-68: SHERWIN BAY UNIT. Portions of the boundary located inland of Shore Road have been modified to account for natural changes that have occurred in the configuration of the shoreline of Sherwin Bay.

NY-69: ASSOCIATION ISLAND UNIT. The boundary of the unit has been modified to account for erosion along the shoreline of Association Island.

NY-72: NORTH POND UNIT. The boundary of the unit has been modified to reflect natural changes that have occurred in the configuration of the wetland/fastland interface and to account for shoreline erosion around North Pond.

NY-73: DEER CREEK MARSH UNIT. The boundary of the unit around the southern half of Deer Creek Marsh has been modified to reflect natural changes that have occurred in the configuration of the wetland/fastland interface.

NY-74: GRINDSTONE CREEK UNIT. The landward boundary of the unit has been modified to follow the wetland/fastland interface along portions of the boundary that previously followed the shoreline of a pond which no longer exists as depicted on the base map of the October 15, 1992 official CBRS map. A portion of the northern lateral boundary has been moved northward to reflect the current position of the outlet of Grindstone Creek.

NY-75: BUTTERFLY SWAMP UNIT. The landward boundary of the unit has been modified to reflect natural changes that have occurred in the configuration of the wetland/fastland interface around Butterfly Swamp.

NY-76: WALKER UNIT. The landward and southern lateral boundaries of the unit have been modified to reflect natural changes that have occurred in the configuration of the wetland/fastland interface.

NY-77: SNAKE SWAMP UNIT. A portion of the eastern boundary of the unit located north of Lakeshore Road has been modified to reflect natural changes that have occurred in the configuration of the wetland/fastland interface.

NY-79: BLIND SODUS BAY UNIT. The landward boundary of the unit has been modified to account for natural changes that have occurred in the configuration of the shoreline and wetland/fastland interface. The western lateral boundary of the unit has been moved southwest to account for erosion along the shoreline of Lake Ontario.

NY-84: MAXWELL BAY UNIT. The boundary of the unit has been modified to account for natural changes that have occurred in the configuration of the wetland/fastland interface.

NY-87: BIG SISTER CREEK UNIT. A portion of the landward boundary on the northern side of the unit formerly followed the shoreline of an unnamed channel that has since migrated southward. This portion of the boundary has been modified to follow the wooded vegetation line east of the beach.

Ohio

The Service's review found 6 of the 10 CBRS units in Ohio to have changed due to natural forces.

OH-02: MENTOR UNIT. There are two segments of Unit OH-02, but modifications to account for natural changes were only necessary in the western segment. Portions of the boundary around Mentor Marsh have been modified to reflect natural changes that have occurred in the configuration of the wetland/fastland interface.

OH-03: NORTH POND UNIT. The western end of the landward boundary of the unit has been modified to reflect natural changes that have occurred in the configuration of the wetland/fastland interface. The eastern and western lateral boundaries of the unit have been modified to account for erosion along the shoreline of Lake Erie.

OH-04: OLD WOMAN CREEK. The southern portion of the boundary of the unit located north of Ohio State Route 2 has been modified to account for natural changes that have occurred in the shoreline along Old Woman Creek.

OH-06: BAY POINT UNIT. The southwestern boundary of the unit has been moved farther southeast to account for the accretion of Bay Point.

OH-09: FOX MARSH UNIT. The landward boundary of the unit has been modified to reflect natural changes that have occurred in the configuration of the wetland/fastland interface.

OH-10: TOUSSAINT RIVER UNIT. The landward boundary of the unit has been modified to reflect natural changes that have occurred in the configuration of the wetland/fastland interface.

Wisconsin

The Service's review found six of the seven CBRS units in Wisconsin to have changed due to natural forces.

WI-02: POINT AU SABLE UNIT. The southern lateral boundary of the unit has been modified to reflect natural changes that have occurred in the configuration of the wetland/fastland interface near the inlet of an unnamed channel to Green Bay.

WI-03: PESHTIGO POINT UNIT. There are two segments of Unit WI-03, but modifications to account for natural changes were only necessary in the western segment. The southern boundary of the western segment of the unit has been modified to reflect natural changes in the wetlands.

WI-04: DYERS SLOUGH UNIT. The eastern boundary of the unit has been modified to account for natural changes that have occurred in the configuration of the eastern shoreline of the Peshtigo River.

WI-05: BARK BAY UNIT. The landward boundary of the unit has been modified to reflect natural changes that have occurred in the configuration of the wetland/fastland interface.

WI-06: HERBSTER UNIT. The landward boundary of the unit has been modified to reflect natural changes that have occurred in the configuration of the wetland/fastland interface.

WI-07: FLAG RIVER UNIT. There are two segments of Unit WI-07, but modifications to account for natural changes were only necessary in the eastern segment. Portions of the landward boundary of the unit have been modified to reflect natural changes that have occurred in the configuration of the wetland/fastland interface.

Request for Comments

The CBRA requires consultation with the appropriate Federal, State, and local officials on the proposed CBRS boundary modifications to reflect changes that have occurred in the size or location of any CBRS unit as a result of natural forces (16 U.S.C. 3503(c)). We invite interested Federal, State, and local officials to review and comment on the draft maps for all of the CBRS units in Alabama, all units in Florida (except for one unit that was remapped in 2014), all units in Georgia, several units in Louisiana, all units in Michigan, the only unit in Minnesota, all units in Mississippi, all units in the Great Lakes region of New York, all units in Ohio, and all units in Wisconsin. The Service is specifically notifying the following stakeholders concerning the availability of the draft maps and opportunity to provide comments on the proposed boundary modifications: The Chair and Ranking Member of the House of Representatives Committee on Natural Resources; the Chair and Ranking Member of the Senate Committee on Environment and Public Works; the members of the Senate and House of Representatives for the affected areas; the Governors of the affected areas; and other appropriate Federal, State, and local officials.

Federal, State, and local officials may submit written comments and accompanying data to the individual and location identified in the ADDRESSES section. We will also accept digital Geographic Information System (GIS) data files that are accompanied by written comments. Comments regarding specific units should reference the appropriate CBRS unit number and unit name. Please note that boundary modifications through this process can only be made to reflect changes that have occurred in the size or location of any CBRS unit as a result of natural forces, voluntary additions to the CBRS, or additions of excess Federal property to the CBRS (as authorized under 16 U.S.C. 3503(c)-(e)); other requests for changes to the CBRS will not be considered at this time. We must receive comments on or before the date listed in the DATES section of this document.

Availability of Draft Maps and Related Information

The draft maps and digital boundary data can be accessed and downloaded from the Service's Web site: http://www.fws.gov/ecological-services/habitat-conservation/Coastal.html. The digital boundary data are available for reference purposes only. The digital boundaries are best viewed using the base imagery to which the boundaries were drawn; this information is printed in the title block of the draft maps. The Service is not responsible for any misuse or misinterpretation of the digital boundary data.

Interested parties may also contact the Service individual identified in the FOR FURTHER INFORMATION CONTACT section of this notice to make arrangements to view the draft maps at the Service's Headquarters office. Interested parties who are unable to access the draft maps via the Service's Web site or at the Service's Headquarters office may contact the Service individual identified in the FOR FURTHER INFORMATION CONTACT section, and reasonable accommodations will be made to ensure the individual's ability to view the draft maps.

Public Availability of Comments

Before including your address, phone number, email address, or other personal identifying information in your comment, you should be aware that your entire comment—including your personal identifying information—may be made publicly available at any time. While you can ask us in your comment to withhold your personal identifying information from public review, we cannot guarantee that we will be able to do so.

Gary Frazer,
Assistant Director for Ecological Services.

[FR Doc. 2015-29191 Filed 11-16-15; 8:45 am]

BILLING CODE 4333-15-P